DEPARTMENT OF ENERGY

Federal Energy Regulatory Commission

[Docket No. CP13-17-000]

Southern Natural Gas Company, L.L.C.; Notice of Request Under Blanket Authorization

Take notice that on November 20, 2012, Southern Natural Gas Company, L.L.C. (Southern), 569 Brookwood Village, Suite 749, Birmingham, Alabama 35209, filed in Docket No. CP13-17-000, an application pursuant to sections 157.205, 157.208, 157.213, and 157.216 of the Commission's Regulations under the Natural Gas Act (NGA) as amended, to make certain modifications to facilities at Southern's Muldon Gas Storage Field (Muldon Field) in Monroe County, Mississippi, in order to convert 5 billion cubic feet (Bcf) of natural gas capacity in the Muldon Field from cushion gas to working gas, under Southern's blanket certificate issued in Docket No. CP82-406-000,¹ all as more fully set forth in the application which is on file with the Commission and open to the public for inspection.

¹ Southern Natural Gas Company, 20 FERC ¶ 62,414 (1982).

Southern proposes to convert 5 Bcf of natural gas capacity at the Muldon Field from cushion gas to working gas and to make certain facilities modifications. Southern asserts that the total capacity of the Muldon Field would remain at the currently maximum certificated level of 92.82 Bcf.² Southern states that the propose facilities modifications would take place over a two-year period. Southern also states that in 2013 it would add separators, heaters, regulators, salt water storage tanks, and associated piping and controls to the existing plant; work on seven existing wells; install approximately 3,200 feet of 8-inch diameter pipe and associated valves; and remove approximately 200 feet of abandoned pipe. Southern further states that in 2014 it would make additional modifications to existing, including minor adjustments and modifications to the new facilities; work on four existing wells, drill one new well; and install approximately 650 feet of 8-inch diameter pipe for the new well. Southern estimates that it would cost $16,000,000 to modify and construct the proposed facilities.

² Southern Natural Gas Company, 46 FPC 813 (1971).

Pursuant to the standard conditions for a certificate issued under the Commission's Blanket Certificate program, Part 157, Subpart F of the Commission's Regulations, section 157.206(c) states that “any authorized construction, extension, or acquisition shall be completed and made available for service by the certificate holder and any authorized operation, or service, shall be available within one year of the date the activity is authorized”. As described above, Southern's proposed project will span two years given the nature of the changes proposed for the operation of its Muldon storage field. Thus, pursuant to section 157.206(c), Southern must seek an extension of that one year deadline for the activities not completed during that first year just prior to the beginning of the second year of the project and describe progress of the project at that point.

Any questions concerning this application may be directed to Tina A. Hardy, Regulatory Manager, Southern Natural Gas Company, L.L.C., 569 Brookwood Village, Suite 749, Birmingham, Alabama 35209 or via telephone at (205) 325-3668, or via email: tina_hardy@kindermorgan.com.

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: November 30, 2012.
Kimberly D. Bose,
Secretary.

[FR Doc. 2012-29812 Filed 12-10-12; 8:45 am]

BILLING CODE 6717-01-P